COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds service(s) to the Procurement List that will be furnished by nonprofit agencies employing persons who are blind or have other severe disabilities, and deletes product(s) and service(s) from the Procurement List previously furnished by such agencies.

DATES: Date added to and deleted from the Procurement List: July 27, 2025.

ADDRESSES: Committee for Purchase From People Who Are Blind or Severely Disabled, 355 E Street SW, Suite 325, Washington, DC 20024.

FOR FURTHER INFORMATION CONTACT: For further information or to submit comments contact: Michael R. Jurkowski, Telephone: (703) 489-1322 or email CMTEFedReg@AbilityOne.gov.

SUPPLEMENTARY INFORMATION:

Additions

On April 18, 2025, the Committee for Purchase From People Who Are Blind or Severely Disabled (operating as the U.S. AbilityOne Commission) published an initial notice of proposed additions to the Procurement List. (90 FR 16511). The Committee determined that the service(s) listed below is suitable for procurement by the Federal Government and has added this service to the Procurement List as a mandatory purchase for the contracting activity listed below. In accordance with 41 CFR 51-5.3(b), the mandatory purchase requirement is limited to the contracting activity at location listed, and in accordance with 41 CFR 51-5.2, the Committee has authorized nonprofit agency listed as the mandatory source(s) of supply.

After consideration of the material presented to it concerning capability of qualified nonprofit agencies to provide the service(s) and impact of the additions on the current or most recent contractors, the Committee has determined that the service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the service(s) to the Government.

2. The action will result in authorizing small entities to furnish the service(s) to the Government.

3. There are no known regulatory alternatives which would accomplish the objectives of the Javits-Wagner-O'Day Act (41 U.S.C. 8501-8506) in connection with the service(s) proposed for addition to the Procurement List.

End of Certification

Accordingly, the following service(s) are added to the Procurement List:

Service(s)

Service Type: Building Management Services

Mandatory for: US Army, MEDCoE, 32d Brigade Medical, Bldgs 1002, 3312, and 3314, JBSA Fort Sam Houston, TX

Authorized Source of Supply: ServiceSource, Inc., Oakton, VA

Contracting Activity: DEPT OF THE AIR FORCE, FA3016 502 CONS CL JBSA

Deletions

On May 23, 2025 (90 FR 22064), the Committee for Purchase From People Who Are Blind or Severely Disabled published notice of proposed deletions from the Procurement List. This notice is published pursuant to 41 U.S.C. 8503(a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

5340-00-NIB-0142—Electronic Push Button Lockset, Philadelphia-style Lever, Small Format Interchangeable Core

5340-00-NIB-0143—Electronic Push Button Lockset, Philadelphia-style Lever, Large Format Interchangeable Core

Authorized Source of Supply: CINCINNATI ASSOCIATION FOR THE BLIND AND VISUALLY IMPAIRED, Cincinnati, OH

Contracting Activity: DLA TROOP SUPPORT, PHILADELPHIA, PA

NSN(s)—Product Name(s): 7530-00-NIB-0193—Folder, Medical, Outpatient

Mandatory Source of Supply: LC Industries, Inc., Durham, NC

Contracting Activity: STRATEGIC ACQUISITION CENTER, FREDERICKSBURG, VA

NSN(s)—Product Name(s): 6515-00-NIB-8388—Kit, Surgical Team, Air Force Austere Custom Packs (AFAST-CP)

Authorized Source of Supply: LC Industries, Inc., Durham, NC

Contracting Activity: DLA TROOP SUPPORT, PHILADELPHIA, PA

NSN(s)—Product Name(s):

8105-00-NIB-1021—Bag, Paper, Grocers

8105-00-NIB-1024—Grocery Bag, Paper

8105-00-NIB-1025—Grocery Bag, Paper

Authorized Source of Supply: LC Industries, Inc., Durham, NC

Contracting Activity: DEFENSE COMMISSARY AGENCY, FORT GREGG-ADAMS, VA

Service(s)

Service Type: Custodial and Related Services

Mandatory for: GSA PBS Region 1, Burlington Federal Building, 58 Pearl Street, Burlington, VT

Authorized Source of Supply: Northern New England Employment Services, Portland, ME

Contracting Activity: PUBLIC BUILDINGS SERVICE, PBS R1

Service Type: Document Destruction

Mandatory for: Railroad Retirement Board, Headquarters Building, 844 North Rush Street Chicago, IL

Contracting Activity: RAILROAD RETIREMENT BOARD, RRB—ACQUISITION MGMT DIVISION

Service Type: Laundry Service

Mandatory for: FEMA, National Emergency Training Center, 16825 South Seton Avenue Emmitsburg, MD

Authorized Source of Supply: Louise W. Eggleston Center, Inc., Norfolk, VA

Contracting Activity: FEDERAL EMERGENCY MANAGEMENT AGENCY, PREPAREDNESS SECTION(PRE20)

Service Type: Custodial and Related Services

Mandatory for: GSA PBS Region 3, LeHigh Valley International Airport, TSA Space, 3311 Airport Road, Allentown, PA

Authorized Source of Supply: Via of the Lehigh Valley, Inc., Bethlehem, PA

Contracting Activity: PUBLIC BUILDINGS SERVICE, PBS R3

Service Type: Operation of USDA Cental Shpg. & Rcvg.

Mandatory for: US Department of Agriculture, Central Shipping and Receiving Facility, 12th & C Streets SW, Washington, DC

Authorized Source of Supply: ServiceSource, Inc., Oakton, VA

Contracting Activity: USDA, DEPARTMENTAL ADMINISTRATION, USDA, OCP-POD-ACQ-MGMT-BRANCH-FTC

Service Type: Janitorial/Custodial

Mandatory for: US Army Reserve, Butler USARC/BMA #110 S-S, 360 Evans City Road, Butler, PA

Authorized Source of Supply: VGS, Inc., Cleveland, OH

Contracting Activity: DEPT OF THE ARMY, W6QK ACC-PICA

Service Type: Janitorial/Grounds and Related Services

Mandatory for: US Army Reserve, Elihu Root USARC, 95 Burrstone Road, Utica, NY

Authorized Source of Supply: Human Technologies Corporation, Utica, NY

Contracting Activity: DEPT OF THE ARMY, W6QK ACC-PICA

Michael R. Jurkowski,
Director, Business Operations.

[FR Doc. 2025-11764 Filed 6-25-25; 8:45 am]

BILLING CODE 6353-01-P